FEDERAL ELECTION COMMISSION

[Notice 2021-03]

Price Index Adjustments for Contribution and Expenditure Limitations and Lobbyist Bundling Disclosure Threshold

AGENCY: Federal Election Commission.

ACTION: Notice of adjustments to contribution and expenditure limitations and lobbyist bundling disclosure threshold.

SUMMARY: As mandated by provisions of the Federal Election Campaign Act (“the Act”), the Federal Election Commission (“the Commission”) is adjusting certain contribution and expenditure limitations and the lobbyist bundling disclosure threshold set forth in the Act, to index the amounts for inflation. Additional details appear in the supplemental information that follows.

DATES: The new limitation at 52 U.S.C. 30116(a)(1)(A) applies beginning on November 4, 2020. The new limitations at 52 U.S.C. 30104(i)(3)(A), 30116(a)(1)(B), 30116(d) and 30116(h) apply beginning on January 1, 2021.

FOR FURTHER INFORMATION CONTACT: Ms. Elizabeth S. Kurland, Information Division, 1050 First Street NE, Washington, DC 20463; (202) 694-1100 or (800) 424-9530.

SUPPLEMENTARY INFORMATION: Under the Federal Election Campaign Act, 52 U.S.C. 30101-45, coordinated party expenditure limits (52 U.S.C. 30116(d)(2)-(3)), certain contribution limits (52 U.S.C. 30116(a)(1)(A) and (B), and (h)), and the disclosure threshold for contributions bundled by lobbyists (52 U.S.C. 30104(i)(3)(A)) are adjusted periodically to reflect changes in the consumer price index. See 52 U.S.C. 30104(i)(3)(B), 30116(c); 11 CFR 109.32(a)(2), (b)(3), 110.17(a), (f). The Commission is publishing this notice to announce the adjusted limits and disclosure threshold.

Coordinated Party Expenditure Limits for 2021

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974). 52 U.S.C. 30116(c)(1)(B)(i), (2)(B)(i).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (5.24905), rounding to the nearest $100. See 52 U.S.C. 30116(c)(1)(B), (d)(3)(B); 11 CFR 109.32(b), 110.17. Based upon this formula, the expenditure limitation for 2021 general elections for House candidates in these states, districts, and territories is $52,500.

¹ Currently, these are Puerto Rico, American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 5.24905 (which totals $105,000); or $0.02 multiplied by the VAP of the state, multiplied by 5.24905. See 52 U.S.C. 30116(c)(1)(B), (d)(3)(A); 11 CFR 109.32(b), 110.17. Amounts are rounded to the nearest $100. 52 U.S.C. 30116(c)(1)(B)(iii); 11 CFR 109.32(b)(3), 110.17(c). The chart below provides the state-by-state breakdown of the 2021 general election expenditure limitations for Senate elections. The expenditure limitation for 2021 House elections in states with only one congressional district ² is $105,000.

² Currently, these states are: Alaska, Delaware, Montana, North Dakota, South Dakota, Vermont and Wyoming. See http://www.house.gov/representatives/.

³ This expenditure limit does not apply to the District of Columbia, Puerto Rico, American Samoa, Guam, the United States Virgin Islands, and the Northern Mariana Islands because those jurisdictions do not elect Senators. See 52 U.S.C. 30116(d)(3)(A); 11 CFR 109.32(b)(2)(i).

Senate General Election Coordinated Expenditure Limits—2021 Elections ³
State | Voting age population (VAP) | VAP × .02 × the price index (5.24905) | Senate expenditure limit (the greater of the amount in column 3 or $105,000)
Alabama | 3,834,249 | $402,500 | $402,500
Alaska | 552,427 | 58,000 | 105,000
Arizona | 5,774,978 | 606,300 | 606,300
Arkansas | 2,330,808 | 244,700 | 244,700
California | 30,576,844 | 3,210,000 | 3,210,000
Colorado | 4,557,684 | 478,500 | 478,500
Connecticut | 2,838,054 | 297,900 | 297,900
Delaware | 782,153 | 82,100 | 105,000
Florida | 17,482,580 | 1,835,300 | 1,835,300
Georgia | 8,210,067 | 861,900 | 861,900
Hawaii | 1,111,188 | 116,700 | 116,700
Idaho | 1,375,870 | 144,400 | 144,400
Illinois | 9,809,562 | 1,029,800 | 1,029,800
Indiana | 5,188,514 | 544,700 | 544,700
Iowa | 2,438,002 | 255,900 | 255,900
Kansas | 2,217,059 | 232,700 | 232,700
Kentucky | 3,475,334 | 364,800 | 364,800
Louisiana | 3,564,038 | 374,200 | 374,200
Maine | 1,101,973 | 115,700 | 115,700
Maryland | 4,721,883 | 495,700 | 495,700
Massachusetts | 5,552,051 | 582,900 | 582,900
Michigan | 7,839,742 | 823,000 | 823,000
Minnesota | 4,356,123 | 457,300 | 457,300
Mississippi | 2,273,653 | 238,700 | 238,700
Missouri | 4,780,119 | 501,800 | 501,800
Montana | 850,894 | 89,300 | 105,000
Nebraska | 1,462,537 | 153,500 | 153,500
Nevada | 2,440,679 | 256,200 | 256,200
New Hampshire | 1,113,141 | 116,900 | 116,900
New Jersey | 6,947,836 | 729,400 | 729,400
New Mexico | 1,633,828 | 171,500 | 171,500
New York | 15,348,422 | 1,611,300 | 1,611,300
North Carolina | 8,294,423 | 870,800 | 870,800
North Dakota | 583,680 | 61,300 | 105,000
Ohio | 9,124,576 | 957,900 | 957,900
Oklahoma | 3,027,263 | 317,800 | 317,800
Oregon | 3,380,729 | 354,900 | 354,900
Pennsylvania | 10,162,497 | 1,066,900 | 1,066,900
Rhode Island | 855,276 | 89,800 | 105,000
South Carolina | 4,100,115 | 430,400 | 430,400
South Dakota | 674,238 | 70,800 | 105,000
Tennessee | 5,373,433 | 564,100 | 564,100
Texas | 21,925,627 | 2,301,800 | 2,301,800
Utah | 2,320,603 | 243,600 | 243,600
Vermont | 510,181 | 53,600 | 105,000
Virginia | 6,724,143 | 705,900 | 705,900
Washington | 6,027,818 | 632,800 | 632,800
West Virginia | 1,428,520 | 150,000 | 150,000
Wisconsin | 4,574,131 | 480,200 | 480,200
Wyoming | 449,237 | 47,200 | 105,000

Limitations on Contributions by Individuals, Non-Multicandidate Committees and Certain Political Party Committees Giving to U.S. Senate Candidates for the 2021-2022 Election Cycle

The Act requires inflation indexing of: (1) The limitations on contributions made by persons under 52 U.S.C. 30116(a)(1)(A) (contributions to candidates) and 30116(a)(1)(B) (contributions to national party committees); and (2) the limitation on contributions made to U.S. Senate candidates by certain political party committees at 52 U.S.C. 30116(h). See 52 U.S.C. 30116(c). These contribution limitations are increased by multiplying the respective statutory contribution amount by 1.46170, the percent difference between the price index, as certified to the Commission by the Secretary of Labor, for the 12 months preceding the beginning of the calendar year and the price index for the base period (calendar year 2001). 52 U.S.C. 30116(c)(1)(B)(i), (2)(B)(ii). The resulting amount is rounded to the nearest multiple of $100. See 52 U.S.C. 30116(c); 11 CFR 110.17(b). Contribution limitations shall be adjusted accordingly:

Statutory provision | Statutory amount | 2021-2022 limit
52 U.S.C. 30116(a)(1)(A) | $2,000 | $2,900
52 U.S.C. 30116(a)(1)(B) | 25,000 | 36,500
52 U.S.C. 30116(h) | 35,000 | 51,200

The limitation at 52 U.S.C. 30116(a)(1)(A) is to be in effect for the two-year period beginning on the first day following the date of the general election in the preceding year and ending on the date of the next regularly scheduled election. 52 U.S.C. 30116(c)(1)(C); 11 CFR 110.1(b)(1)(ii). Thus the $2,900 figure above is in effect from November 4, 2020, to November 8, 2022. The limitations under 52 U.S.C. 30116(a)(1)(B) and 30116(h) shall be in effect beginning January 1st of the odd-numbered year and ending on December 31st of the next even-numbered year. 11 CFR 110.1(c)(1)(ii). Thus the new contribution limitations under 52 U.S.C. 30116(a)(1)(B) and 30116(h) are in effect from January 1, 2021, to December 31, 2022. See 11 CFR 110.17(b)(1).

Lobbyist Bundling Disclosure Threshold for 2021

The Act requires certain political committees to disclose contributions bundled by lobbyists/registrants and lobbyist/registrant political action committees once the contributions exceed a specified threshold amount. 52 U.S.C. 30104(i)(1), (i)(3)(A). The Commission must adjust this threshold amount annually to account for inflation. 52 U.S.C. 30104(i)(3)(B). The disclosure threshold is increased by multiplying the $15,000 statutory disclosure threshold by 1.28380, the difference between the price index, as certified to the Commission by the Secretary of Labor, for the 12 months preceding the beginning of the calendar year and the price index for the base period (calendar year 2006). See 52 U.S.C. 30104(i)(3), 30116(c)(1)(B); 11 CFR 104.22(g). The resulting amount is rounded to the nearest multiple of $100. 52 U.S.C. 30104(i)(3)(B), 30116(c)(1)(B)(iii); 11 CFR 104.22(g)(4). Based upon this formula ($15,000 × 1.28380), the lobbyist bundling disclosure threshold for calendar year 2021 is $19,300.

Dated: January 28, 2021.
On behalf of the Commission,
Shana M. Broussard,
Chair, Federal Election Commission.

[FR Doc. 2021-02173 Filed 2-1-21; 8:45 am]

BILLING CODE 6715-01-P